DEPARTMENT OF TRANSPORTATION

Federal Aviation Administration

[Docket No. FAA-2024-1657]

Agency Information Collection Activities: Requests for Comments; Clearance of a Renewed Approval of Information Collection: Representatives of the Administrator, 14 CFR Part 183

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on May 29, 2024. The collection involves the voluntary submission of application information for persons applying to become designated representatives of the FAA Administrator. The information to be collected will be used by the FAA to screen and select designees who will act as representatives of the FAA Administrator in performing various certification and examination functions on behalf of the FAA. Additionally, the information will be used to determine if a designee continues to be qualified for the designation.

DATES: Written comments should be submitted by November 12, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Tanya Glines by email at: Tanya.glines@faa.gov; phone: 202-380-5896.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0033.

Title: Representatives of the Administrator, 14 CFR part 183.

Form Numbers: None.

Type of Review: Renewal of an information collection.

Background: The Federal Register Notice with a 60-day comment period soliciting comments on the following collection of information was published on May 29, 2024 (89 FR 46571). Title 49, United States Code, Section 44702 states that the Secretary of Transportation may delegate to any properly qualified private person, the examination and testing necessary for the issuance of certificates under Title VI of the Federal Aviation Act. Title 14, Code of Federal Regulations (14 CFR), part 183, Representatives of the Administrator, describes the requirements for delegating to any properly qualified private person, the examination and testing necessary for the issuance of airmen certificates.

Response to this collection of information is required to obtain a benefit, specifically, to obtain a FAA designation as a representative of the FAA Administrator. Designee applicants come from private industry. They are experts in the aviation and medical communities who are familiar with the regulations and certification requirements necessary to issue an FAA certificate. Only highly experienced aviation professionals are expected to respond to the collection. The collection is for reporting of an individual's eligibility and qualifications and occurs on an as needed basis for initial applicants. However, if an individual is not selected as a designee, their application must be updated whenever information changes (as needed) and at least every 12 calendar months (annually). The FAA has now fully implemented the use of the Designee Management System (DMS) web-based application, located at https://designee.faa.gov/#/login, for the application process for all designee types.

Additionally, designees must report any arrest, indictment, or conviction for violation of local, State, or Federal law to the FAA within 30 days of such arrest, indictment, or conviction.

Respondents: Approximately 2,200 individual designee applicants and designated representatives of the FAA Administrator.

Frequency: As needed, annually.

Estimated Average Burden per Response: 3 hours.

Estimated Total Annual Burden: 5,000 hours.

Issued in Washington, DC, on October 7, 2024.
Tanya A. Glines,
Aviation Safety Inspector, FAA Office of Safety Standards, Aircraft Maintenance Division, Airmen Section.

[FR Doc. 2024-23450 Filed 10-9-24; 8:45 am]

BILLING CODE 4910-13-P